DEPARTMENT OF COMMERCE

National Oceanic and Atmospheric Administration

[I.D. 020404B]

Endangered and Threatened Species; Take of Anadromous Fish

AGENCY: National Marine Fisheries Service (NOAA Fisheries), National Oceanic and Atmospheric Administration (NOAA), Commerce.

ACTION: Receipt of applications for renewal and modification of six scientific research/enhancement permits (1093) and request for comment.

SUMMARY: Notice is hereby given that NOAA Fisheries has received applications to renew and modify permits from Simpson Resource Company of Korbel, CA (Permit 1060), U. S. Fish and Wildlife Service, Arcata, CA (Permit 1068), Mill Creek Monitoring Program, Crescent City, CA (Permit 1069), U. S. Forest Service Pacific Southwest Research Station, Arcata, CA (Permit 1071), Pacific Lumber Company of Scotia, CA (Permit 1074), and USGS California Cooperative Fish Research Unit, Humboldt State University, Arcata, CA (Permit 1093). These permits may affect all four Evolutionarily Significant Units (ESUs) of salmonids identified in the Supplementary Information section. This document serves to notify the public of the availability of the permit application for review and comment before a final approval or disapproval is made by NOAA Fisheries.

DATES: Written comments on the permit application must be received at the appropriate address or fax number (see ADDRESSES) no later than 5 p.m. Daylight Savings Time on March 15, 2004.

ADDRESSES: Written comments on any of these renewal and modification request should be sent to the appropriate office as indicated below. Comments may also be sent via fax to the number indicated for the request. E-mail comments may be submitted via the Internet to lamont.jackson@noaa.gov. The applications and related documents are available for review in the indicated office, by appointment: For Permits 1060, 1068, 1069, 1071, 1074, and 1093: Karen Hans, Protected Species Division, NOAA Fisheries, 1655 Heindon Road, Arcata, CA 95521 ph: (707) 825-5180; fax: (707) 825-4840.

FOR FURTHER INFORMATION CONTACT: Karen Hans at (707) 825-5180, or e-mail: karen.hans@noaa.gov

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NOAA Fisheries regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NOAA Fisheries.

Species Covered in This Notice

This notice is relevant to the following four threatened salmonid ESUs: Southern Oregon/Northern California Coast (SONCC) coho salmon (Oncorhynchus kisutch), Central California Coast (CCC) coho salmon, Northern California (NC) steelhead ( O. mykiss), and California Coastal (CC) Chinook salmon ( O. tshawytscha).

Renewal and Modification Requests Received

Permit 1060

Simpson Resource Company has requested the renewal and modification of Permit 1060 for take of juvenile SONCC coho salmon, CC Chinook salmon, and NC steelhead, and tissue collection from adult carcasses from these species, associated with studies assessing presence and population abundances, and genetic diversity of salmon and steelhead in selected waterways throughout Simpson Resource Company lands in California. Permit 1060 was originally issued on March 23, 1998. Simpson Resource Company has proposed to use electrofishing and in-stream trapping as the method of capture. Simpson Resource Company has requested non-lethal take of (1) 170,000 juvenile SONCC coho salmon, (2) 20,000 juvenile CC Chinook salmon, and (3) 50,000 juvenile NC steelhead, and collect and possess up to 1000 SONCC coho salmon, 4000 CC Chinook salmon, and 250 NC steelhead tissue samples from adult carcasses. Permit 1060 will expire April 1, 2013.

Permit 1068

The U.S. Fish and Wildlife Service (USFWS) has requested the renewal and modification of Permit 1068 for take of SONCC coho salmon, CCC coho salmon, CC Chinook salmon, and NC steelhead associated with 11 separate studies assessing presence and population abundances of salmon and steelhead in selected locations in the Klamath and Trinity rivers, selected estuaries in northern California, and Humboldt Bay. The USFWS proposes to capture juvenile and adult salmon and steelhead by rotary screw traps, seine nets, minnow traps, in-stream pipe traps, weirs, trawl, and electrofishing. Permit 1068 was originally issued on April 15, 1998. USFWS has requested non-lethal take of up to: 138,266 juvenile and 600 adult SONCC coho salmon, 50 juvenile CCC coho salmon, 173,987 juvenile and 100 adult CC Chinook salmon, and 276,616 juvenile and 100 adult NC steelhead. Permit 1074 will expire September 1, 2013.

Permit 1069

The Mill Creek Monitoring Program has requested the renewal and modification of Permit 1069 for take of SONCC coho salmon associated with studies assessing presence and population abundances, and genetic diversity of salmon in Mill Creek, a tributary to the Smith River near Crescent City, CA. Proposed capture methods are electrofishing and in-stream traps. Permit 1069 was originally issued to Simpson Timber Company on March 26, 1998; transfer of Permit 1069 from Stimsom Timber Company to Mill Creek Monitoring Program is included in the modification request. The Mill Creek Monitoring Program has requested non-lethal take of up to 70,000 juvenile coho salmon, and to collect tissue samples from up to 300 adult coho salmon carcasses. Permit 1069 will expire February 15, 2012.

Permit 1071

The U.S. Forest Service Pacific Southwest Research Station has requested the renewal and modification of Permit 1071 for take of juvenile SONCC coho salmon, CC Chinook salmon, and NC steelhead associated with two studies on the population dynamics of native and introduced non-salmonid species (in which ESA-listed salmonids may be encountered), and three studies focusing on the interactions between salmonids and habitat conditions. Proposed capture methods are electrofishing or beach seine. Sample sites are located on the Smith River and its tributaries near Crescent City, CA, and the Eel River, South Fork Eel River and its tributaries, Van Duzen River, Mad River, and Jacoby Creek, all located near Eureka, CA. Permit 171 was originally issued on May 18, 1998. Pacific Southwest Research Station has requested non-lethal take of up to 500 juvenile SONCC coho salmon, 170 juvenile CC Chinook salmon, and 1200 juvenile NC steelhead. Permit 171 will expire on October 1, 2010.

Permit 1074

Pacific Lumber Company has requested the renewal and modification of Permit 1074 for take of juvenile SONCC coho salmon, CC Chinook salmon, and NC steelhead associated with studies assessing presence and population abundances of salmon and steelhead in selected streams throughout Pacific Lumber Company lands in California. Permit 1074 was originally issued on May 13, 1998. Proposed capture methods are electrofishing and in-stream traps. Pacific Lumber Company has requested non-lethal take of up to: 3,600 juvenile SONCC coho salmon, 1,515 juvenile CC Chinook salmon, and 11,720 juvenile NC steelhead. Permit 1074 will expire June 1, 2013.

Permit 1093

U. S. Geological Survey, California Cooperative Fish Research Unit, Humboldt State University, Arcata, CA has requested renewal and modification of Permit 1094 for take of juvenile SONCC coho salmon associated with a study assessing the response of coho salmon to watershed restoration projects, and a study evaluating relationships between habitat characteristics and demographics of coho salmon at key life history stages. Proposed capture method is electrofishing. The first study will occur in Hollow Tree Creek, a tributary to the South Fork Eel River near Leggit, CA and the second study will occur in Prairie Creek, a tributary to Redwood Creek, near Orick, CA. Permit 1093 was originally issued on April 1, 1998. California Cooperative Fish Research Unit has requested non-lethal take of up to: 2,100 juvenile SONCC coho salmon. Permit 1074 will expire June 1, 2010.

Dated: February 5, 2004.
David O'Brien,
Acting Chief, Endangered Species Division, Office of Protected Resources, National Marine Fisheries Service.

[FR Doc. 04-3279 Filed 2-12-04; 8:45 am]

BILLING CODE 3510-22-S